CHEMICAL SAFETY AND HAZARD INVESTIGATION BOARD

Sunshine Act Meeting: Public Hearing; Motiva Enterprise's Delaware City Refinery (DCR) Incident (July 17, 2001)

AGENCY: U.S. Chemical Safety and Hazard Investigation Board (CSB).

ACTION: Notice announcing Sunshine Act public hearing.

SUMMARY: The CSB is planning to hold a public hearing to review a staff report concerning an incident that occurred at Motiva Enterprise's Delaware City Refinery (DCR) on July 17, 2001. The staff will present its findings and analysis of the incident and submit its report and recommendations to the Board for approval.

DATES: The Public Hearing will be held on Wednesday, August 28, 2002 from 9 a.m. to 12 p.m. at the Wilmington/Christiana Hilton Hotel, 100 Continental Drive, Newark, DE.

PRE-REGISTRATION: The event is open to the public and there is no fee for attendance. However, attendees are strongly encouraged to pre-register, to ensure adequate seating arrangements. To pre-register, please email your name and affiliation by August 24, 2002, to motiva@csb.gov.

FOR FURTHER INFORMATION CONTACT: David Heller, Office of Investigations and Safety Programs, 202.261.7682 or e-mail at: motiva@csb.gov.

SUPPLEMENTARY INFORMATION: On July 17, 2001, an explosion occurred at Motiva Enterprise's Delaware City Refinery (DCR) in Delaware City, Delaware. Jeffrey Davis, a boilermaker with The Washington Group, a Motiva maintenance contractor, was killed, and 8 others were injured. A crew of contract workers had been repairing grating on a catwalk in an acid storage tank farm when a spark from their hot work ignited flammable vapors in one of the storage tanks. The tank separated from its floor, releasing its contents instantaneously. Other tanks in the tank farm area also released their contents. A fire burned for approximately one-half hour and sulfuric acid reached the Delaware River, resulting in significant damage to aquatic life.

Because of the serious nature of this incident, the U.S. Chemical Safety and Hazard Investigation Board (CSB) launched an investigation to determine the root and contributing causes and to issue recommendations to help prevent similar occurrences. Key issues to be addressed in the report concern: mechanical integrity, engineering management, management of change, and hot work systems.

Raymnd C. Porfiri
Deputy General Counsel.

[FR Doc. 02-20668 Filed 8-9-02; 3:07 pm]

BILLING CODE 6350-01-P